DEPARTMENT OF COMMERCE

International Trade Administration

The Americas Business Trade Mission to Mexico

AGENCY: International Trade Administration, Department of Commerce.

ACTION: Notice.

Mission Description

The U.S. Commercial Service of the International Trade Administration, U.S. Department of Commerce will recruit and organize a multiple industry trade mission to Mexico City with an optional second stop in Monterrey, October 25-28, 2010. This mission will be led by a senior Department of Commerce official.

In each city, participating companies will have one day of pre-scheduled, pre-screened one-on-one appointments with potential distributors, and/or business partners, as well as counseling from Commercial Service trade specialists. In both locations, there will be an in-depth commercial briefing on the local business climate. In Mexico City, there will also be a networking reception for the delegation with local private and public sector officials.

The mission to Mexico is intended to include representatives from best-prospect sectors which include among others airport and aviation, automotive, building and construction, education and training, energy, environmental technologies, financial and insurance services, franchising, information technologies and telecommunications, safety and security, transportation and ports, and travel and tourism and to introduce participants to distributors and prospective partners.

The Americas Business Trade Mission will build on the momentum gained from the 2009 and 2010 The Americas Business Forum held in Los Angeles, CA. The U.S. Commercial Service worked closely with the Los Angeles Area Chamber of Commerce and the UCLA Anderson School of Business to recruit small-to-medium sized companies from across the country to attend the conference. During the conferences the Senior Commercial Officer from Mexico met with more than 50 companies interested in doing business in Mexico. This trade mission will build upon the interest shown during these meetings but participation in this mission is not limited to past participants of The Americas Business Forum.

Commercial Setting

• Mexico is the second largest market in the world for U.S. exports. Given the magnitude of trade between the United States and Mexico, there are abundant opportunities for U.S. firms in Mexico. The North American Free Trade Agreement (NAFTA), enacted in 1994, created a free trade zone for Mexico, Canada and the United States, and has resulted in approximately $367 billion of annual trade between the two countries, more than $1 billion of trade per day.

• Although Mexico's GDP contracted due to the global economic downturn, strong U.S.-Mexico trade continues. GDP is expected to grow by 4.2 percent in 2010. In addition, due to recent economic reforms Mexico's macro-economic picture is a healthier one than in early years of this decade.

• Mexico's size and diversity are often under appreciated by U.S. exporters. It can often be difficult to find a single distributor or agent to cover this vast market.

• The National Infrastructure Plan announced by President Calderon in July 2007 includes over 300 projects in the power, oil and gas, airport, ports, environmental, road transport and other sectors. Projects are open for U.S. company participation, and provide solid opportunities for the supply of goods, services, and technology.

Mission Goals

This trade mission is designed to help U.S. firms initiate or expand their exports to Mexico by providing business-to-business introductions and market access information. This mission by connecting U.S. companies with potential Mexican trading partners also supports the President's initiative to double exports during the next five years to support 2 million American jobs.

Mission Scenario

U.S. firms will take part in formal matchmaking sessions with Mexico City- and Monterrey-based companies. The participating U.S. firms will also be given opportunities to interact with local company representatives at networking events. For the one-on-one sessions, all U.S. companies, together with a Commercial Specialist and/or trade aide will visit their Mexican counterparts at their facilities. The precise schedule will depend on the availability of local business representatives and the specific goals and objectives of the mission participants.

U.S. participants will be counseled before and after the mission by the mission coordinators. Participation in the mission will include the following:

• Pre-travel briefings/webinar on subjects ranging from business practices in Mexico to security;

• Pre-scheduled meetings with potential partners, distributors, end users, or local industry contacts in Mexico City and Monterrey (optional stop);

• Transportation to airports in Mexico City and Monterrey;

• Participation in networking reception in Mexico City, and

• Meetings with respective industry commercial specialists in CS Mexico City and Monterrey.

Proposed Timetable

October 25 | Mexico City:
| “Doing Business in Mexico” Commercial Briefing by U.S. Commercial Service Mexico.
| City and Economic section of the U.S. Embassy.
| Review of mission schedule.
| Networking reception.
October 26 | Mexico City: One-on-one business matchmaking appointments.
October 27 | Mexico City/Monterrey (optional):
| Morning:
| 2-3 sessions on topics related to doing business in Mexico City.
| Debrief of Mexico City portion of trade mission.
| For those participating in Monterrey portion of trade mission, afternoon flight to Monterrey.
| Welcome to Monterrey dinner.
October 28 | Monterrey:
| Breakfast briefing on doing business in Monterrey.
| One-on-one business matchmaking appointments.
| Debrief of trade mission.
| End of mission.

Participation Requirements

All parties interested in participating in The Americas Business Trade Mission to Mexico must complete and submit an application for consideration by the U.S. Department of Commerce. All applicants will be evaluated on their ability to meet certain conditions and best satisfy the selection criteria as outlined below. This mission is designed for a minimum of 12 and a maximum of 15 companies that will be selected to participate in the mission from the applicant pool. U.S. companies already doing business in Mexico City as well as U.S. companies seeking to enter the market for the first time are encouraged to apply. For the optional stop in Monterrey, post can accommodate a maximum of 8 companies due to staffing constraints.

Fee and Expenses

After a company has been selected to participate on the mission, a payment to the U.S. Department of Commerce in the form of a participation fee is required. The participation fee will be $3,700 for large firms that participate in both cities ($2,000 if only participating in Mexico City) and $2,350 for a small or medium-sized enterprise (SME) ¹ or small organization that participates in both cities ($1,300 if only participating in Mexico City), which will cover up to two representatives. The fee for each additional firm representative (large firm or SME) is $500. Expenses for travel, lodging, most meals, and incidentals will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals;

• Applicant's potential for business in Mexico, including likelihood of exports resulting from the trade mission, and

• Consistency of the applicant's goals and objectives with the stated scope of the trade mission. Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html), Pacific South Network U.S. Export Assistance Center Web sites, e-mail notification to registrants of TABF, clients and prospects of the Pacific South Network and local trade and corporate partners and publicity at local trade events and trade shows.

Recruitment for the mission will begin immediately and conclude no later than September 3, 2010. The U.S. Commercial Service will review all applications immediately after the deadline. We will inform applicants of selection decisions as soon as possible after September 3, 2010. Applications received after that date will be considered only if space and scheduling constraints permit.

Contacts

U.S. Commercial Service, Pacific South Network

Julie Anne Hennessy, Los Angeles (West) U.S. Export Assistance Center, 11150 W. Olympic Blvd., Suite 975, Los Angeles, CA 90064. T: (310) 235-7203. F: (310) 235-7220. E: julieanne.hennessy@trade.gov.

U.S. Commercial Service, Mexico City

Jeff Hamilton, U.S. Commercial Service, Liverpool No. 31, Col. Juarez, 06600 Mexico, DF. Tel: (52) (55) 5140-2612. Fax: (52) (55) 5566-1111. E: jeff.hamilton@trade.gov.

Ryan Kane,
Global Trade Programs, Commercial Service Trade Missions Program.

[FR Doc. 2010-18273 Filed 7-26-10; 8:45 am]

BILLING CODE 3510-FP-P